DEPARTMENT OF COMMERCE

National Oceanic and Atmospheric Administration

Agency Information Collection Activities; Submission to the Office of Management and Budget (OMB) for Review and Approval; Comment Request; Application Forms for Membership on a National Marine Sanctuary Advisory Council

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 31, 2024 during a 60-day comment period. No comments were received during this period. This notice allows for an additional 30 days for public comments.

Agency: National Oceanic and Atmospheric Administration, Commerce.

Title: Application Forms for Membership on a National Marine Sanctuary Advisory Council.

OMB Control Number: 0648-0397.

Form Number(s): None.

Type of Request: Regular submission (revision and extension of a currently approved collection).

Number of Respondents: 900.

Average Hours per Response: 1.25 hours.

Total Annual Burden Hours: 1,125 hours.

Needs and Uses: This is a request for revision and extension of an approved information collection.

Section 315 of the National Marine Sanctuaries Act (NMSA) (16 U.S.C. 1445a) allows the Secretary of Commerce to establish one or more advisory councils to advise and make recommendations to the Secretary regarding the designation and management of national marine sanctuaries. Executive Order 13178 (December 4, 2000) similarly established a Coral Reef Ecosystem Reserve Council pursuant to the NMSA for the Northwestern Hawaiian Islands Coral Reef Ecosystem Reserve. Councils are individually chartered for each site, or for the sanctuary system, to meet its specific needs. Once an advisory council has been chartered, a sanctuary superintendent starts a process to recruit members for that council by providing notice to the public and requesting interested parties to apply for the available seat(s) (e.g., Research, Education) and position(s) (i.e., council member or alternate). The information obtained through this application process will be used to determine the qualifications of the applicant for membership on the advisory council.

Two application forms are currently associated with this information collection: (a) National Marine Sanctuary Advisory Council Application form; and (b) National Marine Sanctuary Advisory Council Youth Seat Application form. Application form instructions will specify requirements imposed upon the agency when reviewing applicants as potential council members or alternates. Questions posed to applicants have been reviewed and an additional two questions are being added to solicit information on eligibility for a potential stipend program to decrease financial barriers to joining advisory councils. An additional section for demographic questions is also being added to include the newly updated Statistical Policy Directive No. 15: Standards for Maintaining, Collecting, and Presenting Federal Data on Race and Ethnicity (SPD 15) and Recommendations on the Best Practices for the Collection of Sexual Orientation and Gender Identity Data on Federal Statistical Surveys, and to learn more about our applicants. Existing questions may be reordered, reworded, and at times, condensed to improve the organization of applicant responses and, thereby, simplify the applicant review process. We do not believe that such revisions to the application would appreciably change the average annual number of respondents or the reporting burden for the information requirements supporting solicitation of new advisory council members.

Affected Public: Individuals or households; business or other for-profit organizations; not-for-profit institutions.

Frequency: On occasion.

Respondent's Obligation: Voluntary.

Legal Authority: National Marine Sanctuaries Act (16 U.S.C. 1445a).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0397. Requests for information, including copies of the proposed collection of information and supporting documentation, may be directed to ONMS at sage.riddick@noaa.gov.

Sheleen Dumas,
Departmental PRA Clearance Officer, Office of the Under Secretary for Economic Affairs, Commerce Department.

[FR Doc. 2024-25654 Filed 11-4-24; 8:45 am]

BILLING CODE 3510-NK-P